DEPARTMENT OF THE INTERIOR

Bureau of Land Management

[UT-110-1320-EL, UTU 081895]

Notice of Availability and Notice of Hearing for the Alton Coal Tract Coal Lease by Application Draft Environmental Impact Statement, Utah

AGENCY: Bureau of Land Management, Interior.

ACTION: Notice of availability.

SUMMARY: In accordance with the National Environmental Policy Act of 1969 (NEPA) and the Federal Land Policy and Management Act of 1976, the Bureau of Land Management (BLM) has prepared a Draft Environmental Impact Statement (EIS) for the Alton Coal Tract Lease by Application (LBA) and by this Notice is announcing a public hearing requesting comments on the Draft EIS, the Maximum Economic Recovery (MER), and the Fair Market Value (FMV) of the Federal coal resources.

DATES: To ensure comments will be considered, the BLM must receive written comments on the Alton Coal Tract LBA Draft EIS, MER, and FMV within 60 days following the date the Environmental Protection Agency publishes its Notice of Availability in the Federal Register. A public hearing will be held at Festival Hall Convention Center, 96 North Main, Cedar City, UT on December 6, 2011 at 6 p.m., to receive comments on the MER and FMV of the Federal coal resources as well as to provide information on the Draft EIS. The BLM will also host public informational meetings on the Draft EIS in the following locations: Alton, Kanab, Panguitch, and Salt Lake City, Utah. Times and dates of these meetings will be announced through the Utah BLM Web site at http://www.ut.blm.gov, press releases, local newspapers, and other media. At these meetings the public is invited to submit comments and meet with BLM specialists. The BLM will announce public meetings at least 15 days prior to the event.

ADDRESSES: You may submit comments by any of the following methods:

• Email: UT_Kanab_Altoncoal@blm.gov. Please include “Alton Coal Tract LBA Draft EIS—Keith Rigtrup” in the subject line.

• Fax: (435) 644-4620, Attn: Keith Rigtrup.

• Mail: Kanab Field Office, Bureau of Land Management, Attn: Keith Rigtrup, 318 North 100 East, Kanab, Utah 84741

• Written comments may also be hand-delivered to the BLM Utah Kanab Field Office in Kanab.

Copies of the Draft EIS are available at the following BLM office locations: BLM Utah State Office Public Room, 440 West 200 South, Suite 500, Salt Lake City, Utah 84101; BLM Kanab Field Office, 318 North 100 East, Kanab, Utah 84741 during business hours (7:45 a.m. to 4:30 p.m.), Monday through Friday, except holidays. The Draft EIS is available electronically at the following Web site: http://www.blm.gov/ut/st/en/prog/energy/coal/alton_coal_project.html.

FOR FURTHER INFORMATION CONTACT: Keith Rigtrup, BLM Color Country District Office, 176 East DL Sargent Drive, Cedar City, Utah 84721 or by telephone at (435) 865-3000. Persons who use a telecommunications device for the deaf (TDD) may call the Federal Information Relay Service (FIRS) at 1-(800) 877-8339 to contact the above individual during normal business hours. The FIRS is available 24 hour a day, 7 days a week, to leave a message or question with the above individual. You will receive a reply during normal business hours.

SUPPLEMENTARY INFORMATION: The Draft EIS analyzes the potential impacts of issuing a lease for the Alton Coal Tract, serial number UTU 081895. An application to lease Federal coal near the Town of Alton, Utah, was filed with the BLM on November 12, 2004, by Alton Coal Development, LLC., in accordance with 43 CFR 3425.

The Alton Coal Tract includes 59.6 million tons of in-place bituminous coal. The coal quality in the Smirl coal zone on an “as received basis” is as follows: 10,019 Btu/lb (British Thermal Units per pound), 13 percent moisture, 10 percent ash, 39 percent volatile matter, 50 percent fixed carbon and 1.13 percent sulfur underlying the following lands in Kane County, Utah:

Salt Lake Meridian

T. 39 S., R. 5 W.,

Sec. 7, SE¼SW¼ and S½SE¼;

Sec. 18, lots 3 and 4 and E½, E½W½;

Sec. 19, lots 1 through 4 inclusive, NE¼, E½W½, N½SE¼, and SE¼SE¼;

Sec. 20, lots 4 and 5, and N½SW¼;

Sec. 30, lots 2 through 4 inclusive, SW¼NE¼, SE¼NW¼, E½SW¼, and W½SE¼;

Sec. 31, lots 1 through 3 inclusive, NE¼, E½NW¼, NE¼SW¼, and N½SE¼;

T. 39 S., R. 6 W.,

Sec. 12, SW¼ and W½SE¼;

Sec. 13, NW¼NE¼, N½NW¼, SE¼NW¼, and SE¼;

Sec. 24, NE¼, N½NW¼, SE¼NW¼, E½SW¼, N½SE¼, and SE¼SE¼;

Sec. 25, E½NE¼, SW¼NE¼, and SE¼.

Containing 3,581.27 acres more or less.

Consistent with Federal regulations under NEPA and the Mineral Leasing Act of 1920, as amended, the BLM must prepare an environmental analysis prior to holding a competitive Federal coal lease sale. The Draft EIS analyzes and discloses to the public the direct, indirect, and cumulative environmental impacts of issuing a Federal coal lease on the Alton Coal Tract, including mining and transportation of coal to a railhead near Cedar City, Utah. A copy of the Draft EIS has been sent to affected Federal, State, tribal, and local government agencies; persons and entities identified as potentially being affected by a decision to lease the Federal coal in this tract; and persons who indicated to the BLM that they wished to receive a copy of the Draft EIS. The purpose of the public hearing is to solicit comments on the Draft EIS, for the proposed competitive lease sale of the Alton Coal Tract, and on the FMV and MER of the Federal coal.

The Draft EIS analyzes leasing the Alton Coal Tract as the Proposed Action. Under the Proposed Action, a competitive sale would be held and a lease issued for Federal coal in the tract. As part of the coal leasing process, the BLM is evaluating an additional alternative that would remove 394 acres and 6.8 million tons of Federal coal in the tract to minimize impacts in close proximity to the Town of Alton and preserve seasonal Greater sage-grouse habitat. The alternate tract configuration that the BLM is evaluating is described and analyzed as Alternative C in the Draft EIS. Under this alternative, a competitive sale would be held and a lease issued for Federal coal lands included in a tract modified by the BLM. The Draft EIS also analyzes the alternative of rejecting the application to lease Federal coal as the No Action Alternative. The Proposed Action and alternatives being considered in the Draft EIS are in conformance with the Kanab Field Office Record of Decision and Approved Resource Management Plan (2008).

Requests to be included on the mailing list for this project, for copies of the Draft EIS, or to be notified of the dates of the comment period and public hearing may be sent by mail, facsimile, or electronically to the addresses listed in the ADDRESSES section above. For those submitting comments on the Draft EIS, please make the comments as specific as possible with reference to page numbers and sections of the document. Comments that contain only opinions or preferences will not receive a formal response; however, they may be considered and included as part of the BLM decision-making process.

The public hearing is being held on the proposed lease sale to allow public comment on, and discussion of, the potential effects of the proposed lease sale and mining and transportation of the coal. The BLM must make determinations of the FMV of the coal in the tract(s) and whether MER of the coal in the tract can be accomplished. Proprietary data marked as confidential may be submitted to the BLM in response to FMV and MER in this solicitation of public comments. Data so marked shall be treated in accordance with the laws and regulations governing confidentiality of such information. A copy of the comments submitted by the public on FMV and MER, except those portions identified as proprietary by the author and meeting exemptions stated in the Freedom of Information Act, will be available for public inspection at the Bureau of Land Management, Utah State Office during regular business hours (7:45 a.m. to 4:30 p.m.), Monday through Friday, excluding Federal holidays. Comments on the FMV and MER should be sent to the BLM and should address, but not necessarily be limited to, the following information:

1. The quality of the coal resource;

2. The mining methods or methods which would achieve MER of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and revaluated as a portion of a new potential mine (i.e., a tract which does not in itself form a logical mining unit);

5. Restrictions to mining that may affect coal recovery;

6. The price that the mined coal would bring when sold;

7. Costs, including mining and reclamation, of producing the coal and the time of production;

8. The percentage rate at which anticipated income streams should be discounted, either with inflation or in the absence of inflation, in which case the anticipated rate of inflation should be given;

9. Depreciation, depletion, amortization, and other tax accounting factors;

10. The value of any surface estate where held privately;

11. Documented information on the terms and conditions of recent and similar coal land transactions in the lease sale area; and

12. Any comparable sales data of similar coal lands; and coal quantities and the FMV of the coal developed by the BLM may or may not change as a result of comments received from the public and changes in the market conditions between now and when final economic evaluations are completed.

Please note that comments and information submitted, including names, street addresses, and email addresses of respondents, will be available for public review and disclosure at the Kanab Field Office (address listed above) during regular business hours (7:45 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Juan Palma,
State Director.

[FR Doc. 2011-28506 Filed 11-3-11; 8:45 am]

BILLING CODE 4310-DQ-P